ENVIRONMENTAL PROTECTION AGENCY

[FRL—9942-22-OEI]

Agency Information Collection Activities OMB Responses

AGENCY: Environmental Protection Agency (EPA).

ACTION: Notice.

SUMMARY: This document announces the Office of Management and Budget (OMB) responses to Agency Clearance requests, in compliance with the Paperwork Reduction Act (44 U.S.C. 3501 et. seq.). An agency may not conduct or sponsor, and a person is not required to respond to, a collection of information unless it displays a currently valid OMB control number. The OMB control numbers for EPA regulations are listed in 40 CFR part 9 and 48 CFR chapter 15.

FOR FURTHER INFORMATION CONTACT: Courtney Kerwin (202) 566-1669, or email at kerwin.courtney@epa.gov and please refer to the appropriate EPA Information Collection Request (ICR) Number.

SUPPLEMENTARY INFORMATION:

OMB Responses to Agency Clearance Requests

OMB Approvals

EPA ICR Number 1550.10; Conflict of Interest Rule #1 (Renewal); 40 CFR 1552 and 486(c); was approved with change 06/03/2015; OMB Number 2030-0023; expires on 6/30/2018.

EPA ICR Number 2103.05; Title IV of the Public Health Security and Bioterrorism Preparedness and Response Act of 2002: Drinking Water Security and Safety (Renewal); was approved without change on 06/16/2015; OMB Control Number 2040-0253; expires on 6/30/2018.

EPA ICR Number 2234.04; 2015 Drinking Water Infrastructure Needs Survey and Assessment (Reinstatement); approved without change 06/08/2015; OMB Control Number 2040-0274; expires 6/30/2018.

EPA ICR Number 1189.25; Disposal of Coal Combustion Residuals from Electric Utilities (Final Rule); 40 CFR 40 CFR 257, subpart D, 260, 261; approved with change 06/29/2015; OMB Control Number 2050-0053; expires 6/30/2018.

EPA ICR Number 1425.10; Application for Reimbursement to Local Governments for Emergency Response to Hazardous Substance Releases under CERCLA section 123 (Renewal); 40 CFR part 40 CFR 310.2-310.12 and 310, appendix II; approved without change 06/01/2015; OMB Control Number 2050-0077; expires 6/30/2018.

EPA ICR Number 1767.07; NESHAP for Primary Aluminum Reduction Plants (40 CFR part 63, subpart LL)(Renewal); 40 CFR 63, subparts A and LL, approved with change 06/01/2015; OMB Control Number 2060-0360; expires 06/30/2018.

EPA ICR Number 2277.04; NESHAP for Area Sources: Electric Arc Furnace Steelmaking Facilities (Renewal); 40 CFR part 63, subparts A and YYYYY; approved with change 06/03/2015; OMB Control Number 2060-0608; expires 06/30/2018.

EPA ICR Number 1198.10; Chemical-Specific Rules, TSCA section 8(a); 40 CFR 40 CFR 704; approved without change on 06/01/2015; OMB Control Number 2070-0067; expires 06/30/2018.

EPA ICR Number 1741.07; Correction of Misreported Chemical Substances on the Toxic Substances Control Act (TSCA) Chemical Substances Inventory; approved with change on 06/02/2015; OMB Control Number 2070-0145; expires 06/30/2018.

EPA ICR Number 2002.06; Cross-Media Electronic Reporting (Renewal); 40 CFR 3; approved without change on 07/09/2015; OMB Control Number 2025-0003; expires 07/31/2018.

EPA ICR Number 1391.10; Clean Water Act State Revolving Fund Program (Renewal); 40 CFR 35; approved without change on 07/02/2015; OMB Control Number 2040-0118; expires 07/31/2016.

EPA ICR Number 1959.09; National Listing of Fish Advisories (Renewal); approved with change on 07/08/2015; OMB Control Number 2040-0226; expires 07/30/2018.

EPA ICR Number 1774.06; Mobile Air Conditioner Retrofitting Program (Renewal); 40 CFR 82; approved with change 07/15/2015; OMB Control Number 2060-0350; expires 07/30/2018.

EPA ICR Number 1800.07; Information Requirements for Locomotives and Locomotive Engines (Renewal); 40 CFR 92 and 1033; approved with change on 07/20/2015; OMB Control Number 2060-0392; expires 07/30/2018.

Comment Filed

EPA ICR Number 2258.03; PM 2.5 NAAQS Implementation Rule (Proposed Rule); 40 CFR 51; comment filed 06/03/2015.

Courtney Kerwin,
Acting Director, Collections Strategies Division.

[FR Doc. 2016-02542 Filed 2-8-16; 8:45 am]

BILLING CODE 6560-50-P